DEPARTMENT OF ENERGY

Federal Energy Regulatory Commission

Combined Notice of Filings

Take notice that the Commission has received the following Natural Gas Pipeline Rate and Refund Report filings:

Filings Instituting Proceedings

Docket Number: PR20-8-000.

Applicants: Columbia Gas of Ohio, Inc.

Description: Tariff filing per 284.123(b),(e)/: Revised SOC to be effective 10/29/2019.

Filed Date: 11/12/19.

Accession Number: 201911125059.

Comments/Protests Due: 5 p.m. ET 12/3/19.

Docket Number: PR20-9-000.

Applicants: Southcross Nueces Pipelines LLC.

Description: Tariff filing per 284.123(e)+(g): Cancellation of SOC to be effective 11/12/2019.

Filed Date: 11/12/19.

Accession Number: 201911125212.

Comments Due: 5 p.m. ET 12/3/19.

284.123(g) Protests Due: 5 p.m. ET 1/13/20.

Docket Numbers: RP19-1641-001.

Applicants: Panhandle Eastern Pipe Line Company, LP.

Description: Compliance filing Compliance with RP19-1641 Fuel Filing Order to be effective 11/1/2019.

Filed Date: 11/8/19.

Accession Number: 20191108-5031.

Comments Due: 5 p.m. ET 11/20/19.

Docket Numbers: RP20-217-000.

Applicants: KPC Pipeline, LLC.

Description: § 4(d) Rate Filing: Tariff Filing to Clarify Ability to Negotiate Contractual ROFRs to be effective 12/9/2019.

Filed Date: 11/8/19.

Accession Number: 20191108-5030.

Comments Due: 5 p.m. ET 11/20/19.

Docket Numbers: RP20-218-000.

Applicants: Iroquois Gas Transmission System, L.P.

Description: § 4(d) Rate Filing: 110819 Negotiated Rates—Emera Energy Services, Inc. R-2715-39 to be effective 12/1/2019.

Filed Date: 11/8/19.

Accession Number: 20191108-5034.

Comments Due: 5 p.m. ET 11/20/19.

Docket Numbers: RP20-219-000.

Applicants: Iroquois Gas Transmission System, L.P.

Description: § 4(d) Rate Filing: 110819 Negotiated Rates—Emera Energy Services, Inc. R-2715-40 to be effective 12/1/2019.

Filed Date: 11/8/19.

Accession Number: 20191108-5035.

Comments Due: 5 p.m. ET 11/20/19.

Docket Numbers: RP20-220-000.

Applicants: Columbia Gas Transmission, LLC.

Description: § 4(d) Rate Filing: TCO Arsenal Agreement Termination to be effective 11/8/2019.

Filed Date: 11/8/19.

Accession Number: 20191108-5045.

Comments Due: 5 p.m. ET 11/20/19.

Docket Numbers: RP20-221-000.

Applicants: Algonquin Gas Transmission, LLC.

Description: § 4(d) Rate Filing: Negotiated Rates—PSEG ERT K800576 to be effective 11/8/2019.

Filed Date: 11/8/19.

Accession Number: 20191108-5115.

Comments Due: 5 p.m. ET 11/20/19.

Docket Numbers: RP20-222-000.

Applicants: Northern Natural Gas Company.

Description: § 4(d) Rate Filing: 20191108 Negotiated Rate Filing to be effective 11/10/2019.

Filed Date: 11/8/19.

Accession Number: 20191108-5151.

Comments Due: 5 p.m. ET 11/20/19.

Docket Numbers: RP20-223-000.

Applicants: Southern Star Central Gas Pipeline, Inc.

Description: Compliance filing Annual Operational Flow Order Report 2019 to be effective N/A.

Filed Date: 11/12/19.

Accession Number: 20191112-5017.

Comments Due: 5 p.m. ET 11/25/19.

Docket Numbers: RP20-224-000.

Applicants: Southern Natural Gas Company, L.L.C.

Description: Compliance filing Annual Report on Operational Transactions 2019 to be effective N/A.

Filed Date: 11/12/19.

Accession Number: 20191112-5130.

Comments Due: 5 p.m. ET 11/25/19.

Docket Numbers: RP20-225-000.

Applicants: Rockies Express Pipeline LLC.

Description: § 4(d) Rate Filing: Neg Rate 2019-11-11 CP, BP and EOG to be effective 11/12/2019.

Filed Date: 11/12/19.

Accession Number: 20191112-5234.

Comments Due: 5 p.m. ET 11/25/19.

Docket Numbers: RP20-226-000.

Applicants: NEXUS Gas Transmission, LLC.

Description: § 4(d) Rate Filing: Negotiated Rates—NJR, Equinor, Twin Eagle eff 10-13-19 to be effective 11/13/2019.

Filed Date: 11/12/19.

Accession Number: 20191112-5256.

Comments Due: 5 p.m. ET 11/25/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 14, 2019.
Nathaniel J. Davis, Sr.,
Deputy Secretary.

[FR Doc. 2019-25142 Filed 11-19-19; 8:45 am]

BILLING CODE 6717-01-P